DEPARTMENT OF DEFENSE

Department of the Army

Notice of Availability of the Record of Decision (ROD) for the Environmental Impact Statement (EIS) on Base Realignment and Closure (BRAC) Actions at Fort Sam Houston, TX

AGENCY: Department of the Army, DoD.

ACTION: Record of decision.

SUMMARY: The Department of the Army announces the availability of a ROD which documents the potential environmental impacts associated with realignment actions directed by the BRAC Commission at Fort Sam Houston, TX and Camp Bullis, TX.

ADDRESSES: For more information or to obtain a copy of the ROD, please contact Mr. Phillip Reidinger, Public Affairs Office, Building 124, 1212 Stanley Road, Fort Sam Houston, TX 78234; e-mail Phillip.Reidinger@us.army.mil.

FOR FURTHER INFORMATION CONTACT: Mr. Phillip Reidinger at (210) 221-1151.

SUPPLEMENTARY INFORMATION: The subject of the ROD, EIS and Proposed Action are the construction and renovation activities and movement of personnel associated with the BRAC directed realignment of Fort Sam Houston. The documents also evaluate effects of Army Modular Force (AMF) transformation activities that will occur at Fort Sam Houston at the same time that the BRAC actions are being implemented.

To implement the applicable portions of the BRAC recommendations, Fort Sam Houston will be receiving personnel, equipment, and missions from various realignment and closure actions within the Department of Defense. Additionally, the Army had planned to conduct a series of non-BRAC transformations to position its forces strategically for the future. Additionally, permanent facilities will be constructed or renovated to house the 470th Military Intelligence Brigade and various Headquarters units of the new Army North and Sixth Army that are currently located in a mix of temporary and existing facilities.

To enable implementation of the BRAC Commission recommendations and accommodation of the concurrent Army initiatives, the Army must provide the necessary facilities/buildings and infrastructure to support the changes in force structure.

Following a rigorous examination of all implementation alternatives, those alternatives found not to be viable were dropped from further analysis in the EIS. Alternatives carried forward included (1) The Preferred Alternative and (2) a No Action Alternative. The Preferred Alternative included construction, renovation, and operation of proposed facilities to accommodate incoming military missions at Fort Sam Houston. Minor siting variations of proposed facilities were also evaluated.

Planned undertakings within the National Historical Landmark (NHL) District, including the demolition of existing buildings and construction of new buildings, will be reviewed using the Installation Design Guide historic review requirements and the Standard Operating Procedures (SOPs) in the Historic Properties Component (HPC) of the Integrated Cultural Resources Management Plan. If demolition cannot be avoided, the determination of effects to cultural resources of the NHL District and required mitigations will be determined per the HPC SOPs.

The EIS analyses indicated that implementation of the preferred alternative would have no long-term, significant impacts on the other environmental resources of Fort Sam Houston, Camp Bullis or their surrounding areas. Potential minor impacts to visual resources from implementation of the preferred alternative would generally occur only within the physical boundaries of Fort Sam Houston and Camp Bullis. No long-term significant impacts to geology, topography, caves, karst features, soils or wetlands will occur at either installation. Potential land use impacts are expected at Fort Sam Houston. Use of utilities and generation of hazardous and non-hazardous wastes will likely increase at both installations but not in significant amounts.

Minor air, noise and transportation impacts would also occur during short-term construction activities under the preferred alternative at both installations and continue after final construction and occupancy. No significant impacts to biological resources (vegetation, wildlife, and threatened and endangered species) are expected from the implementation of the preferred alternative. Alternative siting variations would result in similar impacts and benefits as compared to the preferred alternative.

The ROD has considered the results of the analyses presented in the Final EIS and has determined that the EIS adequately addresses the impacts associated with implementation of the Army's proposed action. As a result of this ROD, the Army will proceed with implementation of the Realignment Alternative as presented Final EIS, with all or any of its assessed siting variations, if required to implement the BRAC Commission's recommendations at Fort Sam Houston. In making this decision, a 30-day waiting period for comments on the Final EIS was observed. No new issues that would require modifying or supplementing the EIS were identified. The Fort Sam Houston ROD also takes into consideration transcripts of scoping and Draft EIS public meetings, oral and written comments received during the public comment periods, and provisions of relevant statutes, regulations, and Executive Orders that bear on the installation disposal process and environmental stewardship responsibilities of the Army.

An electronic version of the ROD can be viewed or downloaded from the following Web site: http://www.hqda.army.mil/acsim/brac/nepa_eis_docs.htm.

Dated: June 15, 2007.
Addison D. Davis, IV,
Deputy Assistant Secretary of the Army (Environment, Safety and Occupational Health).

[FR Doc. 07-3056 Filed 6-20-07; 8:45 am]

BILLING CODE 3710-08-M